FEDERAL RESERVE SYSTEM

Agency Information Collection Activities: Submission for OMB Review; Comment Request

AGENCY: Board of Governors of the Federal Reserve System (Board).

ACTION: Notice of information collection to be submitted to OMB for review and approval under the Paperwork Reduction Act of 1995.

SUMMARY: In accordance with the requirements of the Paperwork Reduction Act of 1995 (44 U.S.C. chapter 35), the Board, the Federal Deposit Insurance Corporation (FDIC), and the Office of the Comptroller of the Currency (OCC) (collectively, the “agencies”) may not conduct or sponsor, and the respondent is not required to respond to, an information collection unless it displays a currently valid Office of Management and Budget (OMB) control number.

On January 15, 2008, the Board, under the auspices of the Federal Financial Institutions Examination Council (FFIEC) and on behalf of the agencies, published a notice in the Federal Register (73 FR 2491) requesting public comment for 60 days to extend, with revision, the Report of Assets and Liabilities of U.S. Branches and Agencies of Foreign Banks (FFIEC 002) and the Report of Assets and Liabilities of a Non-U.S. Branch That Is Managed or Controlled by a U.S. Branch or Agency of a Foreign (Non-U.S.) Bank (FFIEC 002S), which are currently approved information collections. The comment period for this notice expired on March 17, 2008. After receiving four comment letters, the FFIEC and the agencies have made no modifications to the proposal, but are delaying implementation to September 30, 2008, except for certain changes for which a transition period begins June 30, 2008. The Board hereby gives notice that it plans to submit to OMB on behalf of the agencies a request for approval of the FFIEC 002 and the FFIEC 002S.

DATES: Comments must be submitted on or before May 5, 2008.

ADDRESSES: Interested parties are invited to submit written comments to the agency listed below. All comments, which should refer to the OMB control number, will be shared among the agencies. You may submit comments, identified by FFIEC 002 (7100-0032) or FFIEC 002S (7100-0273), by any of the following methods:

• Agency Web Site: http://www.federalreserve.gov. Follow the instructions for submitting comments on the http://www.federalreserve.gov/generalinfo/foia/ProposedRegs.cfm.

• Federal eRulemaking Portal: http://www.regulations.gov. Follow the instructions for submitting comments.

• E-mail: regs.comments@federalreserve.gov. Include the OMB control number in the subject line of the message.

• Fax: 202-452-3819 or 202-452-3102.

• Mail: Jennifer J. Johnson, Secretary, Board of Governors of the Federal Reserve System, 20th Street and Constitution Avenue, NW., Washington, DC 20551.

All public comments are available from the Board's Web site at www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.) between 9 a.m. and 5 p.m. on weekdays.

Additionally, commenters should send a copy of their comments to the Desk Officer for the agencies by mail to U.S. Office of Management and Budget, 725 17th Street NW., #10235, Washington, DC 20503 or by fax to 202-395-6974.

FOR FURTHER INFORMATION CONTACT: Additional information or a copy of the collection may be requested from Michelle Shore, Federal Reserve Board Clearance Officer, 202-452-3829, Division of Research and Statistics, Board of Governors of the Federal Reserve System, 20th and C Streets, NW., Washington, DC 20551. Telecommunications Device for the Deaf (TDD) users may call 202-263-4869, Board of Governors of the Federal Reserve System, 20th and C Streets, NW., Washington, DC 20551.

SUPPLEMENTARY INFORMATION: Proposal to request approval from OMB of the extension for three years, with revision, of the following currently approved collections of information:

Report Titles: Report of Assets and Liabilities of U.S. Branches and Agencies of Foreign Banks; Report of Assets and Liabilities of a Non-U.S. Branch that is Managed or Controlled by a U.S. Branch or Agency of a Foreign (Non-U.S.) Bank Form Numbers: FFIEC 002; FFIEC 002S.

OMB Numbers: 7100-0032; 7100-0273.

Frequency of Response: Quarterly.

Affected Public: U.S. branches and agencies of foreign banks.

Estimated Number of Respondents: FFIEC 002-264; FFIEC 002S-65.

Estimated Average Time per Response: FFIEC 002-25 hours; FFIEC 002S-6 hours.

Estimated Total Annual Burden: FFIEC 002-26,400 hours; FFIEC 002S-1,560 hours.

General Description of Reports: These information collections are mandatory: 12 U.S.C. 3105(c)(2), 1817(a)(1) and (3), and 3102(b). Except for select sensitive items, the FFIEC 002 is not given confidential treatment; the FFIEC 002S is given confidential treatment [5 U.S.C. 552(b)(4)].

Abstract: On a quarterly basis, all U.S. branches and agencies of foreign banks are required to file the FFIEC 002, which is a detailed report of condition with a variety of supporting schedules. This information is used to fulfill the supervisory and regulatory requirements of the International Banking Act of 1978. The data are also used to augment the bank credit, loan, and deposit information needed for monetary policy and other public policy purposes. The FFIEC 002S is a supplement to the FFIEC 002 that collects information on assets and liabilities of any non-U.S. branch that is managed or controlled by a U.S. branch or agency of the foreign bank. (Managed or controlled means that a majority of the responsibility for business decisions, including but not limited to decisions with regard to lending or asset management or funding or liability management, or the responsibility for recordkeeping in respect of assets or liabilities for that foreign branch resides at the U.S. branch or agency.) A separate FFIEC 002S must be completed for each managed or controlled non-U.S. branch and filed quarterly along with the U.S. branch or agency's FFIEC 002. The data from both reports are used for: (1) Monitoring deposit and credit transactions of U.S. residents; (2) monitoring the impact of policy changes; (3) analyzing structural issues concerning foreign bank activity in U.S. markets; (4) understanding flows of banking funds and indebtedness of developing countries in connection with data collected by the International Monetary Fund (IMF) and the Bank for International Settlements (BIS) that are used in economic analysis; and (5) assisting in the supervision of U.S. offices of foreign banks. The Federal Reserve System collects and processes these reports on behalf of all three agencies.

Current Actions

In a Federal Register notice published on January 15, 2008 (73 FR 2491), the Board, on behalf of the agencies, requested comment on a proposal to implement a number of revisions to the existing reporting requirements of the FFIEC 002. The proposed revisions would help to achieve consistency with the Reports of Condition and Income (Call Report) (FFIEC 031 and FFIEC 041) filed by insured commercial banks and state-chartered savings banks. The agencies also proposed to combine the FFIEC 002 and FFIEC 002S into one OMB control number, 7100-0032. In response to the January 15, 2008, notice, the agencies received four comment letters from a branch of a foreign bank, a federal agency, a bankers' organization, and a foreign banking organization. One commenter supported the proposed changes and described its use of the data to analyze the effect of quarterly developments on the U.S. International Transactions Accounts. Two commenters had no comments on the proposed revisions, but did offer comments on the use of International Financial Reporting Standards in regulatory reports such as the FFIEC 002 and the FFIEC 002S. The last commenter had no comments on the proposed revisions, but did suggest delaying the proposed implementation date for some of these revisions. After considering these comments, the FFIEC and the agencies have approved the revisions to the FFIEC 002 and the FFIEC 002S as originally proposed. However, the agencies will implement the changes as of the September 30, 2008, reporting date rather than the proposed June 30, 2008, reporting date with one exception. The Schedule O changes will remain on the same interim transition period that had been proposed, which covers the June 30, 2008, through December 31, 2008, reporting dates.

Request for Comment

Comments are invited on:

a. Whether the information collections are necessary for the proper performance of the agencies' functions, including whether the information has practical utility;

b. The accuracy of the agencies' estimates of the burden of the information collections, including the validity of the methodology and assumptions used;

c. Ways to enhance the quality, utility, and clarity of the information to be collected;

d. Ways to minimize the burden of the information collections on respondents, including through the use of automated collection techniques or other forms of information technology; and

e. Estimates of capital or start up costs and costs of operation, maintenance, and purchase of services to provide information.

Comments submitted in response to this notice will be shared among the agencies. All comments will become a matter of public record. Written comments should address the accuracy of the burden estimates and ways to minimize burden including the use of automated collection techniques or other forms of information technology as well as other relevant aspects of the information collection request.

Board of Governors of the Federal Reserve System, April 1, 2008.
Robert deV. Frierson,
Deputy Secretary of the Board.

[FR Doc. E8-6991 Filed 4-3-08; 8:45 am]

BILLING CODE 6210-01-P